POSTAL SERVICE

39 CFR Part 233

Inspection Service Authority

AGENCY: Postal Service™.

ACTION: Final rule.

SUMMARY: The U.S. Postal Service® amends its regulations governing the use of mail covers to make the definitions of sealed and unsealed mail consistent with current classifications.

DATES: This rule is effective October 26, 2016. The relevant changes to the Mail Classification Schedule were implemented on August 28, 2016.

ADDRESSES: Questions or comments on this action are welcome. Mail or deliver written comments to Steven Sultan, Acting Assistant Postal Inspector in Charge, Office of Counsel, U.S. Postal Inspection Service, 475 L'Enfant Plaza SW., Room 3114, Washington, DC 20260-3100.

FOR FURTHER INFORMATION CONTACT: Steven Sultan, Acting Assistant Postal Inspector in Charge, Office of Counsel, U.S. Postal Inspection Service, 202-268-7385, SESultan@uspis.gov.

SUPPLEMENTARY INFORMATION: We are amending our mail cover regulations to accommodate various changes to 39 CFR Appendix A to Subpart A of Part 3020—Mail Classification Schedule, including the following:

• Products added to or removed from the market dominant or competitive product list;

• Changes in product names;

• Removal of Priority Mail International® Flat Rate Envelopes and Small Flat Rate Boxes from the letter post stream to the parcel post stream; ¹ and

¹ Mail Classification Schedule Changes Pertaining to Priority Mail International Flat Rate Envelopes and Priority Mail International Small Flat Rate Boxes, 81 FR22131 (April 14, 2016). See also Mail Classification Schedule Changes Pertaining to Priority Mail International Flat Rate Envelopes and Priority Mail International Small Flat Rate Boxes—Notice of Modified Effective Date, 81 FR 33560 (May 26, 2016).

• Changes that implement management's decision that all Priority Mail International items are to be unsealed.

These changes will provide current information to the public.

List of Subjects in 39 CFR Part 233

Administrative practice and procedure, Crime, Law enforcement, Penalties, Privacy.

For the reasons stated in the preamble, the Postal Service amends 39 CFR part 233 as follows:

PART 233—INSPECTION SERVICE AUTHORITY

1. The authority citation for 39 CFR part 233 is revised to read as follows:

Authority: 39 U.S.C. 101, 102, 202, 204, 401, 402, 403, 404, 406, 410, 411, 1003, 3005(e)(1); 12 U.S.C. 3401-3422; 18 U.S.C. 981, 983, 1956, 1957, 2254, 3061; 21 U.S.C. 881; Sec. 662, Pub. L. 104-208, 110 Stat. 3009-378.

2. In § 233.3, paragraphs (c)(3) and (4) are revised to read as follows:

§ 233.3 Mail covers.

* * * * *

(c) * * *

(3) Sealed mail is mail that under postal laws and regulations is included within a class of mail maintained by the Postal Service for the transmission of letters sealed against inspection. Sealed mail includes: First-Class Mail; Priority Mail; Priority Mail Express; Outbound International Expedited Services (Priority Mail Express International; as well as Global Express Guaranteed items containing only documents); Outbound Single-Piece First-Class Package International Service; International Priority Airmail, except M-bags; International Surface Air Lift, except M-bags; Outbound Single-Piece First-Class Mail International; Global Bulk Economy Contracts, except M-bags; and International Transit Mail.

(4) Unsealed mail is mail that under postal laws or regulations is not included within a class of mail maintained by the Postal Service for the transmission of letters sealed against inspection. Unsealed mail includes: Periodicals; Standard Mail (Commercial and Nonprofit); Package Services; incidental First-Class Mail attachments and enclosures; Parcel Select; Parcel Return Service; First Class Package Service; USPS Retail Ground; Global Express Guaranteed items containing non-documents; Outbound Priority Mail International; International Direct Sacks—M-bags; and all items sent via “Free Matter for the Blind or Handicapped” under 39 U.S.C. 3403 and “Free Matter for the Blind” under International Mail Manual 270.

* * * * *

Stanley F. Mires,
Attorney, Federal Compliance.

[FR Doc. 2016-25805 Filed 10-25-16; 8:45 am]

BILLING CODE 7710-12-P